DEPARTMENT OF COMMERCE

INTERNATIONAL TRADE ADMINISTRATION

[A-570-898]

Chlorinated Isocyanurates from the People's Republic of China: Extension of Time Limit for Preliminary Results of Antidumping Duty Administrative Review

AGENCY: Import Administration, International Trade Administration, Department of Commerce.

EFFECTIVE DATE: May 2, 2007.

FOR FURTHER INFORMATION CONTACT: Katharine Huang or Charles Riggle, AD/CVD Operations, Office 8, Import Administration, International Trade Administration, U.S. Department of Commerce, 14th Street and Constitution Avenue, NW, Washington, DC 20230; telephone (202) 482-1271 or (202) 482-0650, respectively.

SUPPLEMENTARY INFORMATION:

Background

On July 27, 2006, the Department of Commerce (the “Department”) published a notice of initiation of administrative review of the antidumping duty order on chlorinated isocyanurates from the People's Republic of China, covering the period December 16, 2004, through May 31, 2006. See Initiation of Antidumping and Countervailing Duty Administrative Reviews and Request for Revocation in Part, 71 FR 42626 (July 27, 2006). On February 26, 2007, we extended the deadline to complete the preliminary results by 60 days. The preliminary results are currently due no later than May 1, 2007.

Statutory Time Limits

Section 751(a)(3)(A) of the Tariff Act of 1930, as amended (the Act), requires the Department to make a preliminary determination within 245 days after the last day of the anniversary month of an order or finding for which a review is requested and a final determination within 120 days after the date on which the preliminary determination is published. However, if it is not practicable to complete the review within these time periods, section 751(a)(3)(A) of the Act allows the Department to extend the 245-day time limit for the preliminary determination to a maximum of 365 days and the time limit for the final determination to 180 days (or 300 days if the Department does not extend the time limit for the preliminary determination) from the date of publication of the preliminary determination.

Extension of Time Limit for Preliminary Results of Review

We determine that it is not practicable to complete the preliminary results of this review within the extended time limit. Additional time is required to analyze complicated issues raised by the parties regarding surrogate value selections. Therefore, the Department is further extending the time limit for completion of the preliminary results by 60 days until no later than June 30, 2007. Because June 30, 2007, falls on a Saturday, the preliminary results will be due by July 2, 2007, the next business day. We intend to issue the final results no later than 120 days after the publication of the preliminary results notice. This extension is in accordance with sections 751(a)(3)(A) and 777(i)(1) of the Act.

Dated: April 25, 2007.
Stephen J. Claeys,
Deputy Assistant Secretary for Import Administration.

[FR Doc. E7-8377 Filed 5-1-07; 8:45 am]

BILLING CODE 3510-DS-S